FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Tuesday, December 10, 2013, to consider the following matters:

Summary Agenda: No substantive discussion of the following items is anticipated. These matters will be resolved with a single vote unless a member of the Board of Directors requests that an item be moved to the discussion agenda.

Disposition of minutes of previous Board of Directors' Meetings.

Memorandum and resolution re: Final Rule—Appraisals for Higher-Priced Mortgage Loans.

Memorandum and resolution re: Change of Submission Dates for Resolution Plans of Certain Covered Companies and Certain Covered Insured Depository Institutions, under Title I of the Dodd-Frank Act, and 12 CFR 360.10.

Memorandum and resolution re: Final Rule on the Removal of Transferred Office of Thrift Supervision Regulation 12 CFR Part 390, Subpart K—Recordkeeping and Confirmation Requirements for Securities Transactions and Amendments to 12 CFR part 344.

Memorandum and resolution re: Review of Regulations Transferred from the Former Office of Thrift Supervision: Part 390, Subpart H—Disclosure and Reporting of CRA-Related Agreements.

Summary reports, status reports, reports of the Office of Inspector General, and reports of actions taken pursuant to authority delegated by the Board of Directors.

Discussion Agenda:

Memorandum and resolution re: Final Rule—Prohibitions and Restrictions on Proprietary Trading and Certain Interests in, and Relationships With, Hedge Funds and Private Equity Funds.

Memorandum and resolution re: 2014 Corporate Operating Budget.

The meeting will be held in the Board Room on the sixth floor of the FDIC Building located at 550 17th Street NW., Washington, DC.

This Board meeting will be Webcast live via the Internet and subsequently made available on-demand approximately one week after the event. Visit http://www.vodium.com/goto/fdic/boardmeetings.asp to view the event. If you need any technical assistance, please visit our Video Help page at: http://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: December 3, 2013.
Federal Deposit Insurance Corporation.
Robert E. Feldman,
Executive Secretary.

[FR Doc. 2013-29210 Filed 12-3-13; 4:15 pm]

BILLING CODE P